DEPARTMENT OF COMMERCE

International Trade Administration

[A-552-832]

Polyester Textured Yarn From the Socialist Republic of Vietnam: Final Affirmative Determination of Sales at Less Than Fair Value

AGENCY: Enforcement and Compliance, International Trade Administration, Department of Commerce.

SUMMARY: The Department of Commerce (Commerce) determines that polyester textured yarn from the Socialist Republic of Vietnam (Vietnam) is being, or is likely to be, sold in the United States at less than fair value. The period of investigation is April 1, 2020, through September 30, 2020.

DATES: Applicable October 25, 2021.

FOR FURTHER INFORMATION CONTACT: Preston Cox or Yang Jin Chun, AD/CVD Operations, Office VI, Enforcement and Compliance, International Trade Administration, U.S. Department of Commerce, 1401 Constitution Avenue NW, Washington, DC 20230; telephone: (202) 482-5041 or (202) 482-5760, respectively.

SUPPLEMENTARY INFORMATION:

Background

On June 3, 2021, Commerce published its Preliminary Determination.¹ Commerce invited interested parties to comment on the Preliminary Determination.

¹ See Polyester Textured Yarn from the Socialist Republic of Vietnam: Preliminary Affirmative Determination of Sales at Less Than Fair Value, Postponement of Final Determination, and Extension of Provisional Measures, 86 FR 29750 (June 3, 2021) (Preliminary Determination), and accompanying Preliminary Decision Memorandum (PDM).

For a complete description of the events that followed the Preliminary Determination, see the Issues and Decision Memorandum.² The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

² See Memorandum, “Polyester Textured Yarn from the Socialist Republic of Vietnam: Issues and Decision Memorandum for the Final Affirmative Determination of Sales at Less Than Fair Value,” dated concurrently with, and hereby adopted by, this notice (Issues and Decision Memorandum).

Scope Comments

On May 26, 2021, we issued the Preliminary Scope Decision Memorandum.³ The scope case briefs were due on July 9, 2021.⁴ We did not receive any scope case briefs from interested parties. Therefore, Commerce has not made any changes to the scope of this investigation since the Preliminary Determination.

³ See Memorandum, “Antidumping Duty Investigations of Polyester Textured Yarn from Indonesia, Malaysia, Thailand, and Vietnam: Preliminary Scope Decision Memorandum,” dated May 26, 2021 (Preliminary Scope Decision Memorandum).

⁴ The scope case briefs were due “no later than 15 days after the responses to the scope supplemental questionnaires on intermingled textured yarn are filed.” Id. at 3. The last scope supplemental response was submitted on June 24, 2021. See Recron (Malaysia) Sdn. Bhd.'s Letter, “Scope Supplemental Questionnaire Response,” dated June 24, 2021. No information was provided in the responses to the scope supplemental questionnaires that was sufficient for us to revise our findings in the Preliminary Scope Decision Memorandum.

Scope of the Investigation

The product covered by this investigation is polyester textured yarn from Vietnam. For a complete description of the scope of this investigation, see Appendix I.

Verification

Commerce was unable to conduct on-site verification of the information relied upon in making its final determination in this investigation. However, we took additional steps in lieu of an on-site verification to verify the information relied upon in making this final determination, in accordance with section 782(i) of the Tariff Act of 1930, as amended (the Act).⁵

⁵ See Commerce's Letter, “Questionnaire In Lieu of Verification,” dated June 23, 2021; and the Century Single Entity's Letter, “Response to Questionnaire in Lieu of Verification,” dated July 1, 2021. The Century Single Entity is comprised of Century Synthetic Fiber Corporation and Century Synthetic Fiber Corporation-Branch. See Memorandum, “Less-Than-Fair-Value Investigation of Polyester Textured Yarn from the Socialist Republic of Vietnam: Affiliation and Collapsing Analysis for Century Synthetic Fiber Corporation and Century Synthetic Fiber Corporation-Branch,” dated May 26, 2021.

Analysis of Comments Received

All issues raised in the case and rebuttal briefs by parties in this investigation are discussed in the Issues and Decision Memorandum. A list of the issues raised in the Issues and Decision Memorandum is attached to this notice as Appendix II.

Vietnam-Wide Entity and Use of Adverse Facts Available

We continue to find that the use of facts available is warranted in determining the rate for the Vietnam-wide entity pursuant to sections 776(a)(1) and (2)(A)-(C) of the Act.⁶ Further, use of adverse facts available is warranted with respect to the Vietnam-wide entity because the Vietnam-wide entity did not cooperate to the best of its ability to comply with our requests for information and, accordingly, we applied adverse inferences in selecting from the facts available, pursuant to section 776(b) of the Act and 19 CFR 351.308(a).

⁶ See Preliminary Determination PDM at 15-17.

Changes From the Preliminary Determination

Based on our analysis of the comments received, we made certain changes to the dumping margin calculations for the Century Single Entity and the Vietnam-wide entity.⁷

⁷ See the Issues and Decision Memorandum for a discussion of these changes.

Combination Rate

Consistent with the Preliminary Determination ⁸ and Policy Bulletin 05.1,⁹ Commerce calculated a combination rate for the Century Single Entity, the sole respondent eligible for a separate rate in this investigation.

⁸ See Preliminary Determination.

⁹ See Enforcement and Compliance's Policy Bulletin No. 05.1, regarding, “Separate-Rates Practice and Application of Combination Rates in Antidumping Investigations involving Non-Market Economy Countries,” dated April 5, 2005 (Policy Bulletin 05.1), available on Commerce's website at http://enforcement.trade.gov/policy/bull05-1.pdf.

Final Determination

Commerce determines that the following estimated weighted-average dumping margins exist:

Exporter | Producer | Estimated weighted- average dumping margin (percent)
Century Single Entity | Century Single Entity | 2.58
Vietnam-Wide Entity |  | 22.36

Disclosure

Commerce intends to disclose its calculations and analysis performed to interested parties in this final determination within five days of any public announcement or, if there is no public announcement, within five days of the date of publication of this notice in accordance with 19 CFR 351.224(b).

Continuation of Suspension of Liquidation

In accordance with section 735(c)(1)(B) of the Act, Commerce will instruct U.S. Customs and Border Protection (CBP) to continue to suspend liquidation of all entries of polyester textured yarn from Vietnam, as described in Appendix I of this notice, which were entered or withdrawn from warehouse for consumption on or after June 3, 2021, the date of publication of the Preliminary Determination of this investigation in the Federal Register.

Pursuant to section 735(c)(1)(B)(ii) of the Act, upon the publication of this notice, Commerce will instruct CBP to require a cash deposit equal to the weighted-average amount by which the normal value exceeds U.S. price as follows: (1) The cash deposit rate for the exporter/producer combination listed in the table above will be the rate identified in the table; (2) for all combinations of Vietnamese exporters/producers of subject merchandise that have not received their own separate rate above, the cash-deposit rate will be the cash deposit rate established for the Vietnam-wide entity; and (3) for all non-Vietnamese exporters of subject merchandise which have not received their own separate rate above, the cash-deposit rate will be the cash deposit rate applicable to the Vietnamese exporter/producer combination (or the Vietnam-wide entity) that supplied that non-Vietnamese exporter. These suspension of liquidation instructions will remain in effect until further notice.

International Trade Commission Notification

In accordance with section 735(d) of the Act, we will notify the International Trade Commission (ITC) of our final affirmative determination of sales at less than fair value. Because the final determination in this investigation is affirmative, in accordance with section 735(b)(2) of the Act, the ITC will make its final determination as to whether the domestic industry in the United States is materially injured, or threatened with material injury, by reason of imports of subject merchandise from Vietnam no later than 45 days after our final determination. If the ITC determines that such injury does not exist, this proceeding will be terminated and all cash deposits posted will be refunded. If the ITC determines that such injury does exist, Commerce will issue an antidumping duty order directing CBP to assess, upon further instruction by Commerce, antidumping duties on all imports of the subject merchandise entered, or withdrawn from warehouse, for consumption on or after the effective date of the suspension of liquidation.

Notification Regarding Administrative Protective Order

This notice serves as a reminder to the parties subject to an administrative protective order (APO) of their responsibility concerning the disposition of proprietary information disclosed under APO in accordance with 19 CFR 351.305(a)(3). Timely written notification of the return or destruction of APO materials or conversion to judicial protective order is hereby requested. Failure to comply with the regulations and terms of an APO is a sanctionable violation.

Notification to Interested Parties

This determination is issued and published in accordance with sections 735(d) and 777(i)(1) of the Act, and 19 CFR 351.210(c).

Dated: October 18, 2021.
Ryan Majerus,
Deputy Assistant Secretary for Policy and Negotiations, Performing the Non-Exclusive Functions and Duties of the Assistant Secretary for Enforcement and Compliance.

Appendix I—Scope of the Investigation

The merchandise covered by this investigation, polyester textured yarn, is synthetic multifilament yarn that is manufactured from polyester (polyethylene terephthalate). Polyester textured yarn is produced through a texturing process, which imparts special properties to the filaments of the yarn, including stretch, bulk, strength, moisture absorption, insulation, and the appearance of a natural fiber. This scope includes all forms of polyester textured yarn, regardless of surface texture or appearance, yarn density and thickness (as measured in denier), number of filaments, number of plies, finish (luster), cross section, color, dye method, texturing method, or packaging method (such as spindles, tubes, or beams).

The merchandise subject to this investigation is properly classified under subheadings 5402.33.3000 and 5402.33.6000 of the Harmonized Tariff Schedule of the United States (HTSUS). Although the HTSUS subheadings are provided for convenience and customs purposes, the written description of the merchandise is dispositive.

Appendix II—List of Topics Discussed in the Issues and Decision Memorandum

I. Summary

II. Background

III. Surrogate Country

IV. Separate Rate

V. Vietnam-Wide Rate

VI. Changes Since the Preliminary Determination

VII. Scope of the Investigation

VIII. Discussion of the Issues

Comment 1: Selection of Financial Statements

Comment 2: Calculations of Surrogate Financial Ratios

Comment 3: Auxiliary Electricity

Comment 4: Electricity Valuation

Comment 5: Masterbatch PET Chips Valuation

Comment 6: PET Chips Valuation

Comment 7: Scrap Offset

Comment 8: Polyethylene Strap

IX. Recommendation

[FR Doc. 2021-23127 Filed 10-22-21; 8:45 am]

BILLING CODE 3510-DS-P